DEPARTMENT OF JUSTICE

Antitrust Division

Notice Pursuant to the National Cooperative Research and Production Act of 1993—TeleManagement Forum

Notice is hereby given that, on Oct 29, 2025, pursuant to section 6(a) of the National Cooperative Research and Production Act of 1993, 15 U.S.C. 4301 et seq. (“the Act”), TM Forum, a New Jersey Non-Profit Corporation (“the Forum”) filed written notifications simultaneously with the Attorney General and the Federal Trade Commission disclosing changes in its membership. The notifications were filed for the purpose of extending the Act's provisions limiting the recovery of antitrust plaintiffs to actual damages under specified circumstances. Specifically, Hutchison Drei Austria GmbH, Vienna, REPUBLIC OF AUSTRIA; POST Luxembourg, Luxembourg, GRAND DUCHY OF LUXEMBOURG; Onivia, Pozuelo de Alarcon, KINGDOM OF SPAIN; Guangdong Eshore Technology Co., Ltd., Guangzhou, PEOPLE'S REPUBLIC OF CHINA; Metro East Technology Resources, Inc., Mandaluyong, REPUBLIC OF THE PHILIPPINES; PT Bangunindo Teknusa Jaya, Jakarta Selatan, REPUBLIC OF INDONESIA; Andala Labs, Inc, Palo Alto, CA; Akuig, Dublin, IRELAND; Tritronik, Bandung, REPUBLIC OF INDONESIA; Queensland Urban Utilities, Fortitude Valley, COMMONWEALTH OF AUSTRALIA; Neural Technologies Indonesia, PT., Jakarta Selatan, REPUBLIC OF INDONESIA; E-lighthouse Network Solutions, Cartagena, KINGDOM OF SPAIN; Verso Altima d.o.o., Zagreb, REPUBLIC OF CROATIA; Globberry LLC, Afton, WY; Seamfix Limited, Lekki Phase 1, FEDERAL REPUBLIC OF NIGERIA; Ribbon Communications, Plano, TX; True Corporation Public Company Limited, Bangkok, KINGDOM OF THAILAND; Chartered CIO Council, Johannesburg, REPUBLIC OF SOUTH AFRICA; Motive, Mississauga, CANADA; and Ceragon Networks, Rosh HaAyin, STATE OF ISRAEL have been added as parties to this venture.

Also, AARNet Pty Ltd, Chatswood, COMMONWEALTH OF AUSTRALIA; Boston Harbor Consulting LLC, Boston, MA; COGNITY S.A., Marousi, HELLENIC REPUBLIC ; Communications Business Automation Network, South Beach Tower, REPUBLIC OF SINGAPORE; Crown Castle, Houston, TX; DITO TELECOMMUNITY CORPORATION, Taguig City, REPUBLIC OF THE PHILIPPINES; Globys, Inc., Seattle, WA; Idea Helix Inc., Fremont, CA; Integsoft SA de CV, SALTILLO, UNITED MEXICAN STATES; Public Telecommunication Corporation (PTC), Sanaa, REPUBLIC OF YEMEN; Aerospike, Mountain View, CA; GCI Communication Corp, Anchorage, AK; Gotransverse, Austin, TX; OPT/NET B.V., Bergen NH, KINGDOM OF THE NETHERLANDS; Qarbon Technologies PTE LTD, Singapore, REPUBLIC OF SINGAPORE; Solvatio AG, Rimpar, FEDERAL REPUBLIC OF GERMANY; TeleYemen, Sanaa, REPUBLIC OF YEMEN; Total Access Communication Public Company Limited, Pathumwan Sub-district, KINGDOM OF THAILAND; and The Libyan International Telecommunication Company, Tripoli, LIBYA have withdrawn as parties to this venture.

In addition, the following members have changed their names: Telesat LEO Inc. to Telesat LEO ULC, Ottawa, CANADA; EverestIMS Technologies Pvt Ltd to EverestIMS Technologies Limited, Bengaluru, REPUBLIC OF INDIA; Post Group to POST Luxembourg, Luxembourg, GRAND DUCHY OF LUXEMBOURG; and NTT COMWARE CORPORATION to NTT DOCOMO SOLUTIONS, Inc., Tokyo, JAPAN.

No other changes have been made to either the membership or planned activity of the group research project. Membership in this group research project remains open, and the Forum intends to file additional written notifications disclosing all the changes in membership.

On October 21, 1988, the Forum filed its original notification pursuant to section 6(a) of the Act. The Department of Justice published a notice in the Federal Register pursuant to section 6(b) of the Act on December 8, 1988 (53 FR 49615).

The last notification was filed with the Department on Jul 17, 2025. A notice was published in the Federal Register pursuant to section 6(b) of the Act on Aug 15, 2025 (90 FR 39423).

Suzanne Morris,
Deputy Director Civil Enforcement Operations, Antitrust Division

[FR Doc. 2025-24178 Filed 12-31-25; 8:45 am]

BILLING CODE 4410-11-P